DEPARTMENT OF ENERGY

Federal Energy Regulatory Commission

Sunshine Act Meeting Notice

May 14, 2020.

The following notice of meeting is published pursuant to section 3(a) of the government in the Sunshine Act (Pub. L. 94-409), 5 U.S.C. 552b:

Agency Holding Meeting: Federal Energy Regulatory Commission.

DATE AND TIME: May 21, 2020, 10:00 a.m.

PLACE: Open to the public via audio Webcast only.¹

¹ Join FERC online to listen live at http://ferc.capitolconnection.org/.

STATUS: Open.

MATTERS TO BE CONSIDERED:

Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1067th Meeting—Open Meeting
[May 21, 2020, 10:00 a.m.]
Item No. | Docket No. | Company
Administrative
A-1 | AD20-1-000 | Agency Administrative Matters.
A-2 | AD20-2-000 | Customer Matters, Reliability, Security and Market Operations.
A-3 | AD06-3-000 | 2020 Summer Energy Market and Reliability Assessment.
Electric
E-1 | EL14-12-004 | Association of Businesses Advocating Tariff Equity; Coalition of MISO Transmission Customers, Illinois; Industrial Energy Consumers, Indiana Industrial Energy; Consumers, Inc., Minnesota Large Industrial Group, and Wisconsin Industrial Energy Group v. Midcontinent; Independent System Operator, Inc., ALLETE, Inc., Ameren; Illinois Company, Ameren Missouri, Ameren Transmission; Company of Illinois, American Transmission Company LLC, Cleco Power LLC, Duke Energy Business Services, LLC.
| EL15-45-013 | Entergy Arkansas, Inc., Entergy Gulf States Louisiana; LLC, Entergy Louisiana, LLC, Entergy Mississippi, Inc.; Entergy New Orleans, Inc., Entergy Texas, Inc.; Indianapolis Power & Light Company, International; Transmission Company, ITC Midwest LLC, Michigan Electric; Transmission Company, LLC, MidAmerican Energy Company; Montana-Dakota Utilities Co., Northern; Indiana Public Service Company; Northern States Power Company—Minnesota; Northern States Power Company—Wisconsin; Otter Tail Power Company, and Southern Indiana Gas & Electric Company; Arkansas Electric Cooperative Corporation, Mississippi; Delta Energy Agency; Clarksdale Public Utilities Commission; Public Service Commission of Yazoo City, and Hoosier Energy Rural Electric Cooperative, Inc. v. ALLETE, Inc.; Ameren Illinois Company, Ameren Missouri; Ameren Transmission Company of Illinois; American Transmission Company LLC; Cleco Power LLC; Duke Energy Business Services, LLC; Entergy Arkansas, Inc.; Entergy Gulf States Louisiana, LLC, Entergy Louisiana, LLC; Entergy Mississippi, Inc.; Entergy New Orleans, Inc.; Entergy Texas, Inc.; Indianapolis Power & Light Company; International Transmission Company; ITC Midwest LLC; Michigan Electric Transmission Company, LLC; MidAmericanEnergy Company; Montana-Dakota Utilities Co.; Northern Indiana Public Service Company; Northern States Power Company—Minnesota; Northern States Power Company—Wisconsin; Otter Tail Power Company, and Southern Indiana Gas & Electric Company.
E-2 | PL19-4-000 | Inquiry Regarding the Commission's Policy for Determining the Return on Equity for Natural Gas and Oil Pipelines.
E-3 | EL19-58-000; ER19-1486-000 | PJM Interconnection, L.L.C.
E-4 | EL16-91-001; EL18-19-001; (Consolidated) ER18-939-000 | Southwest Power Pool, Inc.
E-5 | EL16-99-001; EL18-18-001; (Consolidated) ER18-937-000; ER18-937-001 | Midcontinent Independent System Operator, Inc.
E-6 | ER20-1080-000 | Midcontinent Independent System Operator, Inc. and Union Electric Company.
E-7 | ER20-1079-000 | Midcontinent Independent System Operator, Inc. and Ameren Transmission Company of Illinois.
E-8 | ER20-1045-001 | Tri-State Generation and Transmission Association, Inc.
E-9 | ER20-687-000 | Tri-State Generation and Transmission Association, Inc.
E-10 | ER20-1006-000; EL20-43-000 | DATC Path 15, LLC.
E-11 | ER19-1955-002; ER19-1955-003 | Public Service Company of New Mexico.
E-12 | ER19-1864-002; ER19-1864-003 | Public Service Company of Colorado.
E-13 | ER19-1507-005 | Duke Energy Carolinas, LLC; Duke Energy Florida, LLC; and Duke Energy Progress, LLC.
E-14 | ER19-1959-001; EL20-39-000 | Avista Corporation.
E-15 | EL18-145-000 | Tilton Energy LLC v. PJM Interconnection, L.L.C.
E-16 | EL19-34-000 | Brookfield Energy Marketing LP v. PJM Interconnection, L.L.C.
E-17 | EL19-51-000 | Cube Yadkin Generation, L.L.C. v. PJM Interconnection, L.L.C.
E-18 | OMITTED |
E-19 | ER19-1958-001; ER19-1958-002 | PJM Interconnection, L.L.C.
E-20 | ER20-335-000; ER20-335-001; ER20-338-000 | McKenzie Electric Cooperative, Inc.
E-21 | ER19-1643-001 | Hopewell Power Generation, LLC.
E-22 | EL20-8-000 | NTE Carolinas II, LLC and NTE Energy, LLC.
E-23 | EL18-61-001 | Public Citizen, Inc. v. PJM Interconnection L.L.C.
E-24 | OMITTED |
E-25 | EL17-32-000; | Old Dominion Electric Cooperative and Direct Energy; Business, LLC on behalf of itself and its affiliate.
| EL17-36-000 | Direct Energy Business Marketing, LLC, and American; Municipal Power, Inc. v. PJM Interconnection, L.L.C.; Advanced Energy Management Alliance v. PJM Interconnection, L.L.C.
Miscellaneous
M-1 | PL20-7-000 | Waiver of Tariff Requirements.
Hydro
H-1 | P-14992-000 | Pumped Hydro Storage LLC.
H-2 | P-14994-000 | Pumped Hydro Storage LLC.
H-3 | P-2246-065 | Yuba County Water Agency.
H-4 | P-10934-034 | Sugar River Hydro II, LLC.
H-5 | P-2101-165 | Sacramento Municipal Utility District.
Certificates
C-1 | CP19-471-000 | Bluewater Gas Storage, LLC.
C-2 | CP20-24-000; CP20-25-000 | Sabine Pipe Line LLC; Bridgeline Holdings, L.P.
C-3 | CP20-14-000 | Natural Gas Pipeline Company of America LLC.
C-4 | CP20-16-000 | Portland Natural Gas Transmission System.
C-5 | CP16-9-010 | Algonquin Gas Transmission, LLC and Maritimes &; Northeast Pipeline, L.L.C.
C-6 | RP20-41-001 | PennEast Pipeline Company, LLC.
C-7 | CP17-178-000 | Alaska Gasline Development Corporation.
C-8 | CP17-495-001; CP17-494-001 | Jordan Cove Energy Project L.P.; Pacific Connector Gas Pipeline, LP.

Dated: May 14, 2020.
Kimberly D. Bose,
Secretary.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2020-10844 Filed 5-15-20; 11:15 am]

BILLING CODE 6717-01-P